DEPARTMENT OF HEALTH AND HUMAN SERVICES

Centers for Medicare & Medicaid Services

[Document Identifier CMS-1880 and CMS-1856]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by September 13, 2021.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, you may make your request using one of following:

1. Access CMS' website address at website address at: https://www.cms.gov/Regulations-and-Guidance/Legislation/PaperworkReductionActof1995/PRA-Listing.html.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Request for Certification as Supplier of Portable X-Ray Services under the Medicare/Medicaid Program; Use: CMS-1880 is initially completed by suppliers of portable X-ray services, expressing an interest in and requesting participation in the Medicare program. The CMS-1880 form initiates the process of obtaining a decision as to whether the conditions of coverage are met by the portable X-ray supplier seeking Medicare participation. It also promotes data reduction or introduction to, and retrieval from, the Certification and Survey Provider Enhanced Reporting (CASPER) by the CMS Regional Offices (ROs). The CMS-1880 form is also completed by current Medicare participating portable x-ray supplier during each recertification survey. Form Numbers: CMS-1880 (OMB control number: 0938-0027); Frequency: Occasionally; Affected Public: State, Local, or Tribal Governments; Number of Respondents: 104; Total Annual Responses: 104; Total Annual Hours: 26. (For policy questions regarding this collection contact Caroline Gallaher at 410-786-8705.)

2. Type of Information Collection Request: Extension of a currently approved collection; Title of Information Collection: Request for Certification in the Medicare/Medicaid Program for Provides of Outpatient Physical Therapy and/or Speech-Language Pathology; Use: The form is used as an application to be completed by providers of outpatient physical therapy and/or speech-language pathology services requesting participation in the Medicare and Medicaid programs. This form initiates the process of obtaining a decision as to whether the conditions of participation are met as a provider of outpatient physical therapy and/or speech-language pathology services. The form is used by the State Agencies (SAs) to enter the new prospective provider into the national surveyor database. The form is also used for recertification of the provider. Surveyors are no longer required to use form CMS-1856. Surveyors are now able to access survey resources electronically from the national surveyor database, as a result, the need for surveyors to carry printed copies of the survey information data is no longer efficient. Form Number: CMS-1856 (OMB control number: 0938-0065); Frequency: Annually, occasionally; Affected Public: Private sector—Business or other for-profit and Not-for-profit institutions; Number of Respondents: 195; Total Annual Responses: 195; Total Annual Hours: 49. (For policy questions regarding this collection contact Caecilia Blondiaux at 410-786-2190.)

Dated: August 10, 2021.
William N. Parham, III,
Director, Paperwork Reduction Staff, Office of Strategic Operations and Regulatory Affairs.

[FR Doc. 2021-17374 Filed 8-12-21; 8:45 am]

BILLING CODE 4120-01-P